DEPARTMENT OF TRANSPORTATION

Federal Highway Administration

Environmental Impact Statement: Pennington County, SD

AGENCY: Federal Highway Administration (FHWA), DOT.

ACTION: Notice of Intent.

SUMMARY: The FHWA is issuing this notice to advise the public that an Environmental Impact Statement will be prepared for proposed road improvements on South Rochford Road in Pennington County, South Dakota.

FOR FURTHER INFORMATION CONTACT: Ms. Marion Barber, Environmental Specialist, FHWA, 116 East Dakota Avenue, Suite A, Pierre, SD 57501, (605) 226-7326; Mr. Terry Keller, Environmental Supervisor, Project Development, South Dakota Department of Transportation, 700 E. Broadway Avenue, Pierre, SD 57501, (605) 773-3721; Mr. Heine Junge, Highway Superintendent, Pennington County Highway Department, 3601 Cambell Street, Rapid City, SD 57701 (605) 394-2166. Further information can be found and comments can be submitted via the project Web site at http://www.southrochfordroad.com.

SUPPLEMENTARY INFORMATION:

Background

The FHWA, in cooperation with the SDDOT and Pennington County, South Dakota, will prepare an Environmental Impact Statement (EIS) on a proposal for roadway improvements on South Rochford Road in Pennington County, South Dakota. The proposed project would involve roadway improvements to South Rochford Road for approximately 10 miles between the Town of Rochford and the intersection of South Rochford Road and Deerfield Road.

The proposed project is considered necessary to improve year-round access to the Town of Rochford from the Deerfield Lake area. The existing roadway is difficult to maintain with a gravel surface, steep grades, drainage issues, and curvilinear alignment. Alternatives under consideration include: (1) No action; (2) roadway improvements along the existing alignment; and (3) roadway improvements on a new alignment. The proposed work would include reconstructing the two-lane roadway, providing an all-weather surface, and improving the drainage and associated roadway structures. Adjusting existing utilities and acquisition of right-of-way (ROW) may be necessary.

Based on preliminary environmental analysis, it is anticipated that the proposed project may require the following Federal permits: Section 404 Permit for filling/dredging water of the United States and Section 401 Water Quality Certification. A Special Use Permit may be required from the U.S. Forest Service.

An agency scoping meeting and public scoping/information meeting are planned with the meetings scheduled between February and June of 2012. Letters describing the proposed action and soliciting comments will be sent to the appropriate federal, state, and local agencies; tribes; and private organizations and citizens who are known to be interested in the proposed project. Public input will be sought throughout the proposed project through a series of public meetings. A Draft EIS will be prepared and a public hearing will be held. Public notice will be given regarding the time and place of the public meetings and public hearing.

If a build alternative is chosen as the preferred alternative, construction is anticipated to begin in 2015 or 2016. To ensure that the full range of issues related to this proposed action is addressed and all significant issues are identified, comments and suggestions are invited from all interested parties. Comments or questions concerning this proposed action and the EIS should be submitted through the project Web site at http://www.southrochfordroad.com or directed to any of the persons identified above at the addresses provided under the caption FOR FURTHER INFORMATION CONTACT.

(Catalog of Federal Domestic Assistance Program Number 20.205, Highway Planning and Construction. The regulations implementing Executive Order 12372 regarding intergovernmental consultation of Federal programs and activities apply to this program.)

Issued on: January 19, 2012.
Marion Barber,
Environmental Specialist, Federal Highway Administration, Pierre, South Dakota.

[FR Doc. 2012-1725 Filed 1-27-12; 8:45 am]

BILLING CODE 4910-22-P